DEPARTMENT OF AGRICULTURE

Agricultural Marketing Service

[Doc. No. AMS-NOP-10-0021]

Notice of Meeting of the National Organic Standards Board

AGENCY: Agricultural Marketing Service, USDA.

ACTION: Notice.

SUMMARY: In accordance with the Federal Advisory Committee Act, as amended, the Agricultural Marketing Service (AMS) is announcing a forthcoming meeting of the National Organic Standards Board (NOSB).

DATES: The meeting dates are Monday, April 26, 2010, 3 p.m. to 5 p.m.; Tuesday, April 27, 2010, 8 a.m. to 5 p.m.; Wednesday, April 28, 2010, 8 a.m. to 5 p.m.; and Thursday, April 29, 2010, 8 a.m. to 5 p.m. Requests from individuals and organizations wishing to make oral presentations at the meeting are due by the close of business on Monday, April 12, 2010.

ADDRESSES: The meeting will take place at the Heidrick Ag History Center, 1962 Hays Lane, Woodland, CA 95776.

• Requests for copies of the NOSB meeting agenda, may be sent to Ms. Valerie Frances, Executive Director, NOSB, USDA-AMS-NOP, 1400 Independence Ave., SW., Room 2646-So., Ag Stop 0268, Washington, DC 20250-0268. The NOSB meeting agenda and proposed recommendations may also be viewed at http://www.ams.usda.gov/nop.

• Written comments on proposed NOSB recommendations must be received by the close of business, Monday, April 12, 2010. Written comments may be submitted to Ms. Valerie Frances at either the postal address above, or electronically via http://www.regulations.gov. The comments should identify Docket No. AMS-NOP-10-0021. It is our intention to have all comments to this notice whether they are submitted by mail or the Internet available for viewing on the http://www.regulations.gov Web site.

• Requests to make an oral presentation at the meeting must be received by April 12, 2010 to Ms. Valerie Frances at either the postal address above, by e-mail to valerie.frances@ams.usda.gov, facsimile at (202) 205-7808, or phone at (202) 720-3252.

FOR FURTHER INFORMATION CONTACT: Valerie Frances, Executive Director, NOSB, National Organic Program (NOP), (202) 720-3252, or visit the NOP Web site at: http://www.ams.usda.gov/nop.

SUPPLEMENTARY INFORMATION: Section 2119 (7 U.S.C. 6518) of the Organic Foods Production Act of 1990 (OFPA), as amended (7 U.S.C. 6501 et seq.) requires the establishment of the NOSB. The purpose of the NOSB is to make recommendations about whether a substance should be allowed or prohibited in organic production or handling, to assist in the development of standards for substances to be used in organic production, and to advise the Secretary on other aspects of the implementation of the OFPA. The NOSB met for the first time in Washington, DC, in March 1992, and currently has six subcommittees working on various aspects of the organic program. The committees are: Compliance, Accreditation, and Certification; Crops; Handling; Livestock; Materials; and Policy Development.

In August of 1994, the NOSB provided its initial recommendations for the NOP to the Secretary of Agriculture. Since that time, the NOSB has submitted 180 addenda to its recommendations and reviewed more than 357 substances for inclusion on the National List of Allowed and Prohibited Substances. The Department of Agriculture (USDA) published its final National Organic Program regulation in the Federal Register on December 21, 2000, (65 FR 80548). The rule became effective April 21, 2001.

In addition, the OFPA authorizes the National List of Allowed and Prohibited Substances and provides that no allowed or prohibited substance would remain on the National List for a period exceeding five years unless the exemption or prohibition is reviewed and recommended for renewal by the NOSB and adopted by the Secretary of Agriculture. This expiration is commonly referred to as sunset of the National List. The National List appears at 7 CFR Part 205, Subpart G.

The principal purposes of the NOSB meeting are to provide an opportunity for the NOSB to receive an update from the USDA/NOP and hear progress reports from NOSB committees regarding work plan items and proposed action items. The last NOSB meeting was held on November 3-5, 2009, in Washington, DC. At its last meeting, the Board did not recommend the addition of any new materials to the National List, but did conclude its review of 11 of the 12 materials scheduled to expire after September 12, 2011. In addition to these 11 materials, there is one synthetic substance: Ferric phosphate (CAS # 10045-86-0), currently allowed for use in organic crop production, that will no longer be allowed for use after September 12, 2011. The sunset review process must be concluded no later than September 12, 2011. If renewal is not concluded by those dates, the use of these 12 materials will no longer be in compliance with the NOP.

At this meeting, the NOSB will conclude their review on the continued use of the material exemption for Ferric phosphate (CAS # 10045-86-0), with its respective annotations and limitations, currently allowed for use in organic crop production, that is scheduled to expire after September 12, 2011. Additionally, the NOSB will continue its review pertaining to the continued exemption (use) of 37 agricultural products not commercially available as organic that are scheduled to expire after June 27, 2012. These products are allowed for use in organic handling in or on processed products based on final commercial availability determinations by accredited certifying agents. The NOSB will also continue its review pertaining to the continued exemption (use) and prohibition of 182 substances used in organic production and handling that are set to sunset on October 7, 2012; the continued uses (2) for one substance in organic crop and livestock production that is due to sunset on December 11, 2012; and 10 exempted substances for use in organic livestock production that are due to sunset on December 13, 2012.

Specifically, the Crops Committee will conclude their review on the continued use of the material exemption for Ferric phosphate (CAS # 10045-86-0), with its respective annotations and limitations, currently allowed for use in organic crop production, that is scheduled to expire after September 12, 2011.

The Crops Committee will continue their review pertaining to the continued exemptions (use) for the following synthetic substances, along with any respective annotations and limitations, which are allowed for use in organic crop production per § 205.601 and are scheduled to expire after October 7, 2012: Ethanol; Isopropanol; Calcium hypochlorite; Chlorine dioxide; Sodium hypochlorite; Hydrogen peroxide; Soap-based algicide/demossers; Herbicides, soap-based; Plastic mulch and covers; Newspapers or other recycled paper, without glossy or colored inks (2 uses); Soaps, ammonium; Ammonium carbonate; Boric acid; Elemental sulfur (3 uses); Lime sulfur (2 uses); Oils, horticultural-narrow range oils as dormant, suffocating, and summer oils (2 uses); Soaps, insecticidal; Sticky traps/barriers; Pheromones; Sulfur dioxide; Vitamin D3; Copper hydroxide; Copper oxide; Copper oxychloride; Copper sulfate (2 uses); Hydrated lime; Hydrogen peroxide; Potassium bicarbonate; Streptomycin; Aquatic plant extracts (other than hydrolyzed); Humic acids; Lignin sulfonate (2 uses); Magnesium sulfate; Soluble boron products; Sulfates, carbonates, oxides, or silicates of zinc, copper, iron, manganese, molybdenum, selenium, and cobalt; Liquid fish products; Vitamin B1; Vitamin C; Vitamin E; Ethylene gas; Sodium silicate; and EPA List 4-Inerts of Minimal Concern.

The Crops Committee will continue their review pertaining to the exemption (use) of sucrose octanoate esters, currently allowed for use in organic crop production as per § 205.601, that is scheduled to expire on December 11, 2012.

The Crops Committee will continue their review pertaining to the continued prohibition of the following nonsynthetic substances, and any respective annotations, which are prohibited for use in organic crop production as per § 205.602: Ash from manure burning; Arsenic; Lead salts; Potassium chloride; Sodium fluoaluminate (mined); Sodium nitrate; Strychnine; and Tobacco dust (nicotine sulfate). The prohibition on each of these substances is scheduled to expire on October 7, 2012, after which each substance would be allowed for use in organic crop production unless the prohibition is renewed.

The Crops Committee will present a recommendation on production standards for terrestrial plants in containers and enclosures. The Committee will also present a recommendation offering guidance regarding the use of inerts in pesticide formulations due to their reassessment under the Food Quality Protection Act (FQPA) recently completed by the Environmental Protection Agency (EPA).

The Livestock Committee will present their recommendation on synthetic substances petitioned for continued use as per § 205.603 (d): As feed additives: (1) DL-Methionine, DL-Methionine—hydroxy analog, and DL-Methionine—hydroxy analog calcium (CAS #-59-51-8; 63-68-3; 348-67-4)—for use only in organic poultry production until October 1, 2010, that is scheduled to expire after October 1, 2010.

The Livestock Committee will continue their review pertaining to the continued exemption (use) of the following synthetic substances, with their respective annotations and limitations, which are allowed for use in organic livestock production as per § 205.603, and which are scheduled to expire after October 7, 2012: Ethanol; Isopropanol; Aspirin; Vaccines; Chlorhexidine; Calcium hypochlorite. Chlorine dioxide; Sodium hypochlorite; Electrolytes; Glucose; Glycerine; Hydrogen peroxide; Iodine (2 uses); Magnesium sulfate; Oxytocin; Ivermectin; Phosphoric acid; Copper sulfate; Lidocaine; Lime, hydrated; Mineral oil; Procaine; Trace minerals; Vitamins; EPA List 4—Inerts of Minimal Concern. The committee will continue its review pertaining to the continued exemption (use) of sucrose octanoate esters for use in organic livestock production scheduled to expire on December 11, 2012

The Livestock Committee will continue their review pertaining to the continued exemptions (use) of the following synthetic substances, with their respective annotations and limitations, that are allowed for use in organic livestock production as per § 205.603, and which are scheduled to expire after December 13, 2012: Atropine (CAS #-51-55-8); Butorphanol (CAS #-42408-82-2); Flunixin (CAS #-38677-85-9); Furosemide (CAS #-54-31-9); Magnesium hydroxide (CAS #-1309-42-8); Peroxyacetic/Peracetic acid (CAS #- 79-21-0); Poloxalene (CAS #-9003-11-6); Tolazoline (CAS #-59-98-3); Xylazine (CAS #-7361-61-7); and Excipients.

The Livestock Committee will continue their review pertaining to the continued prohibition of the nonsynthetic substance, Strychnine, as per § 205.604. Strychnine is scheduled to expire and be allowed for use in organic livestock production after October 7, 2012.

The Livestock Committee will also present their recommendations clarifying the definition and uses of animal health care products.

The Handling Committee will continue their review pertaining to the continued exemption (use) of the nonorganically produced agricultural products allowed as ingredients, with their respective annotations and limitations, in or on processed products labeled as “organic” as per § 205.606 when the organic version is not commercially available. These exemptions are scheduled to expire after June 27, 2012.

The following are allowed as color ingredients from agricultural products: Annatto extract color (pigment CAS # 1393-63-1)—water and oil soluble; Beet juice extract color (pigment CAS # 7659-95-2); Beta-Carotene extract color from carrots (CAS # 1393-63-1); Black currant juice color (pigment CAS #'s: 528-58-5, 528-53-0, 643-84-5, 134-01-0, 1429-30-7, and 134-04-3); Black/Purple carrot juice color (pigment CAS #'s: 528-58-5, 528-53-0, 643-84-5, 134-01-0, 1429-30-7, and 134-04-3); Blueberry juice color (pigment CAS #'s: 528-58-5, 528-53-0, 643-84-5, 134-01-0, 1429-30-7, and 134-04-3); Carrot juice color (pigment CAS # 1393-63-1); Cherry juice color (pigment CAS #'s: 528-58-5, 528-53-0, 643-84-5, 134-01-0, 1429-30-7, and 134-04-3); Chokeberry—Aronia juice color (pigment CAS #'s: 528-58-5, 528-53-0, 643-84-5, 134-01-0, 1429-30-7, and 134-04-3); Elderberry juice color (pigment CAS #'s: 528-58-5, 528-53-0, 643-84-5, 134-01-0, 1429-30-7, and 134-04-3); Grape juice color (pigment CAS #'s: 528-58-5, 528-53-0, 643-84-5, 134-01-0, 1429-30-7, and 134-04-3); Grape skin extract color (pigment CAS #'s: 528-58-5, 528-53-0, 643-84-5, 134-01-0, 1429-30-7, and 134-04-3); Paprika color—dried powder and vegetable oil extract (CAS # 68917-78-2); Pumpkin juice color (pigment CAS # 127-40-2); Purple potato juice color (pigment CAS #'s: 528-58-5, 528-53-0, 643-84-5, 134-01-0, 1429-30-7, and 134-04-3); Red cabbage extract color (pigment CAS #'s: 528-58-5, 528-53-0, 643-84-5, 134-01-0, 1429-30-7, and 134-04-3); Red radish extract color (pigment CAS #'s: 528-58-5, 528-53-0, 643-84-5, 134-01-0, 1429-30-7, and 134-04-3); Saffron extract color (pigment CAS # 1393-63-1), and Turmeric extract color (CAS # 458-37-7).

The following are allowed as ingredients or processing aids from agricultural products: Casings, from processed intestines; Celery powder; Chia (Salvia hispanica L.); Dillweed oil (CAS # 8006-75-5); Fish oil (Fatty acid CAS #'s: 10417-94-4, and 25167-62-8); Fructooligosaccharides (CAS # 308066-66-2); Galangal, frozen; Gelatin (CAS # 9000-70-8); Hops (Humulus lupulus); Inulin, oligofructose enriched (CAS # 9005-80-5); Konjac flour (CAS # 37220-17-0); Lemongrass, frozen; Orange shellac, unbleached (CAS # 9000-59-3); Pepper, chipotle chile; Sweet potato starch, for bean thread production only; Turkish bay leaves; Wakame seaweed (Undaria pinnatifida); and Whey protein concentrate.

The Handling Committee will continue their review pertaining to the continued exemption (use) of the following nonagricultural (nonorganic) substances allowed as ingredients, with their respective annotations and limitations, in or on processed products labeled as “organic” or “made with organic (specified ingredients or food groups(s)) as per § 205.605 as (a) Nonsynthetics allowed: Acids (Alginic; Citric; and Lactic); Bentonite; Calcium carbonate; Calcium chloride; Carageenan; Dairy cultures; Diatomaceous earth; Enzymes; Flavors; Kaolin; Magnesium sulfate; Nitrogen; Oxygen; Perlite; Potassium chloride; Potassium iodide; Sodium bicarbonate; Sodium carbonate; Waxes; Yeast (Autolysate; Bakers; Brewers; Nutritional; and Smoked). The exemption for each of these substances is scheduled to expire after October 7, 2012.

The Handling Committee will continue their review pertaining to the continued exemption (use) of the following nonagricultural (nonorganic) substances allowed as ingredients, with their respective annotations and limitations, in or on processed products labeled as “organic” or “made with organic (specified ingredients or food groups(s)) as per § 205.605 as (b) Synthetics allowed: Alginates; Ammonium bicarbonate; Ammonium carbonate; Ascorbic acid; Calcium citrate; Calcium hydroxide; Calcium phosphates (monobasic, dibasic, and tribasic); Carbon dioxide; Chlorine materials (Calcium hypochlorite; Chlorine dioxide; and Sodium hypochlorite); Ethylene; Ferrous sulfate; Glycerides (mono and di); Glycerin; Hydrogen peroxide; Magnesium carbonate; Magnesium chloride; Magnesium stearate; Nutrient vitamins and minerals; Ozone; Pectin (low-methoxy); Phosphoric acid; Potassium acid tartrate; Potassium carbonate; Potassium citrate; Potassium hydroxide; Potassium iodide; Potassium phosphate; Silicon dioxide; Sodium citrate; Sodium hydroxide; Sodium phosphates; Sulfur dioxide; Tocopherols; and Xanthan gum. The exemption for each of these substances is scheduled to expire after October 7, 2012.

The Handling Committee will continue their review pertaining to the continued exemption (use) of the nonorganically produced agricultural products allowed as ingredients in or on processed products labeled as “organic” as per § 205.606 and any respective annotations and limitations, when an organic version is not commercially available: Cornstarch (native); Gums-water extracted only (arabic, guar, locust bean, carob bean); Kelp; and Pectin (high-methoxy). The exemption for each of these substances is scheduled to expire after October 7, 2012.

The Compliance, Accreditation, and Certification Committee will present their recommendation to the NOP for use as guidance regarding the use of inert atmospheric gases in processed products labeled as 100% Organic.

The Materials and Handling Committees will jointly present their recommendations to the NOP to clarify the definitions of the National List.

The Policy Development Committee will present their recommendation regarding a revision to the NOSB Policy and Procedures Manual.

The Meeting is Open to the Public. The NOSB has scheduled time for public input for Tuesday, April 27, 2010, from 8 a.m. to 5 p.m. Individuals and organizations wishing to make oral presentations at the meeting must forward their requests by mail, facsimile, e-mail, or phone to Ms. Valerie Frances as listed in ADDRESSES above. Individuals or organizations will be given approximately five minutes to present their views. All persons making oral presentations are requested to provide their comments in writing. Written submissions may contain information other than that presented at the oral presentation. Anyone may submit written comments at the meeting. Persons submitting written comments are asked to provide 30 copies.

Interested persons may visit the NOSB portion of the NOP Web site at http://www.ams.usda.gov/nop to view available meeting documents prior to the meeting, or visit http://www.regulations.gov to submit and view comments as provided for in ADDRESSES above. Documents presented at the meeting will be posted for review on the NOP website approximately six weeks following the meeting.

Dated: March 11, 2010.
David R. Shipman,
Acting Administrator, Agricultural Marketing Service.

[FR Doc. 2010-5771 Filed 3-16-10; 8:45 am]

BILLING CODE 3410-02-P